FEDERAL COMMUNICATIONS COMMISSION

Notice of Public Information Collection(s) Being Reviewed by the Federal Communications Commission, Comments Requested

September 3, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before November 8, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Judith B. Herman, Office of Managing Director, (202) 418-0214. For additional information, contact Judith B. Herman, Office of Managing Director, 202-418-0214 or email judith-b.herman@fcc.gov.

SUPPLEMENTARY INFORMATION: OMB Control Number: 3060-0972.

Title: Multi-Association Group (MAG) Plan Order, Parts 54 and 69 Filing Requirements for Regulation of Interstate Services of Non-Price Cap Incumbent Local Exchange Carriers and Interexchange Carriers.

Form Nos.: FCC Forms 507, 508 and 509.

Type of Review: Extension of a currently approved collection.

Respondents: Business or other for-profit and not-for-profit institutions.

Number of Respondents and Responses: 1,258 respondents; 10,849 responses.

Estimated Time Per Response: 1 hour to 90 hours.

Frequency of Response: Quarterly, annual, one time, every three year reporting requirements; and third party disclosure requirements.

Obligation to Respond: Required to obtain or retain benefits. Statutory authority for this information collection is contained in 47 U.S.C. sections 1 - 4, 10, 154(i), 154(j), 201-205, 254, and 403.

Total Annual Burden: 46,877 hours.

Total Annual Cost: $48,900.

Privacy Act Impact Assessment: N/A.

Nature and Extent of Confidentiality: The Commission does not request that respondents submit confidential information to the Commission. If the respondents believe they have information that is confidential, they may request confidential treatment of their information under 47 CFR 0.459 of the Commission's rules.

Needs and Uses: The Commission will submit this expiring information collection to the Office of Management and Budget (OMB) after this comment period to obtain the full, three-year clearance from them. There is no change in the Commission's reporting and/or third party disclosure requirements. The Commission is reporting a 6,426 hourly increase adjustment and a $3,705 increase in annual costs.

Following the passage of the Telecommunications Act of 1996, the Commission adopted interstate access charge and universal service support reforms. The reforms were designed to establish a “pro-competitive, deregulatory national policy framework” for the United States telecommunications industry, and to carry out the universal service policies embodied in the1996 Act.

Specifically, the Commission aligned the interstate access rate structure more closely with the manner in which costs are incurred, and created a universal service support mechanism for rate-of-return carriers (Interstate Common line Support (ICLS)) to replace implicit support in interstate access charges with explicit support that is portable to all eligible telecommunications carriers.

By merging Long Term Support (LTS) with ICLS, the Commission made the universal service mechanisms simpler and more transparent, while ensuring that rate-of-return carriers maintain existing levels of universal service support.

To administer the ICLS mechanism, the Universal Service Administrative Company (USAC) must collect certain data. Specifically, the Administrator must collect from each rate-of-return carrier projected cost and revenue data for the July 1 - July 30 funding year to accurately distribute prospective ICLS to those carriers.

The Administrator must also collect from each rate-of-return carrier actual cost and revenue data for the prior calendar year in order to accurately calculate the final ICLS for which the carrier is eligible and perform true-ups against the prospective ICLS. In order to fulfill its obligation to prevent waste, fraud, and abuse in the universal service program, the Administrator must also collect from selected carriers additional cost and revenue data for the purpose of validating the actual cost and revenue data filed by rate-of-return carriers.

The Commission will use the information collected to determine whether and to what extent non-price cap or rate-of-return carriers providing the data are eligible to receive universal service support. The Commission will use the tariff data to make sure that rates are just and reasonable, as required by section 201(b) of the 1996 Act.

Federal Communications Commission.
Marlene H. Dortch,
Secretary,
Office of the Secretary,
Office of Managing Director.

[FR Doc. 2010-22469 Filed 9-8-10; 8:45 am]

BILLING CODE 6712-01-S